POSTAL SERVICE

Privacy Act of 1974, System of Records

AGENCY: Postal Service.

ACTION: Notice of proposed modifications to existing system of records.

SUMMARY: This document publishes notice of modifications to Privacy Act system of records USPS 010.010, renamed by this notice as “Collection and Delivery Records-Address Change, Mail Forwarding, and Related Services Records.” The modifications reflect the electronic collection of information traditionally covered by the system and the collection and maintenance of move-related information.

DATES: Any interested party may submit written comments on the proposed addition and modification. This proposal will become effective without further notice on July 28, 2000, unless comments received on or before that date result in a contrary determination.

ADDRESSES: Written comments on this proposal should be mailed or delivered to Finance Administration/FOIA, United States Postal Service, 475 L'Enfant Plaza SW, RM 8141, Washington, DC 20260-5202. Copies of all written comments will be available at the above address for public inspection and photocopying between 8 a.m. and 4 p.m., Monday through Friday.

FOR FURTHER INFORMATION CONTACT: Betty Sheriff, (202) 268-2608.

SUPPLEMENTARY INFORMATION: Postal customers who move and choose to file a forwarding order with the Postal Service complete PS Form 3575, Change-of-Address Order. Privacy Act system 010.010 covers the collection and maintenance of this information. In recent years, the Postal Service has provided an Internet version of PS Form 3575, along with other information to help customers before, during, and after their move to a new address. Customers complete the form online and print, sign, and mail it to the Postal Service.

Enhancements to the Postal Service's Internet site, which is currently called MoversNet, will result in the collection of additional information, prompting the need for the system revisions proposed by this notice. Customers will be able to effect change-of-address service online by providing proof of identity such as a credit card number. In addition, customers will be able to order move-related services provided by entities outside of the Postal Service. These services will be offered through a new Internet site called MoversGuide.com, which will replace MoversNet. The move-related services will include moving van rental; sale of moving boxes; and long-distance telephone and cable service, etc. Information needed by the entity to provide service will be collected from the customer by the Postal Service and maintained after for fulfillment and customer service purposes. A customer can elect for the Postal Service to maintain certain information for the customer's use in future transactions on MoversGuide.com. The proposed changes to the categories of records segment of the system notice reflect the addition of this new information.

In addition, the purpose statement has been expanded to include the objective of collecting move-related records to enhance customer service and convenience.

Three new routine uses are being adopted. These routine uses permit disclosure of information about a customer to providers of move-related services at the customer's request; disclosure of change-of-address information to certain government agencies or other entities selected by the customer; and disclosure of information about a customer to an online identity validation system for purposes of verifying the customer's identity. Each of these disclosures is necessary to accomplish the purposes for which the information is collected.

The system modifications are not expected to have an adverse effect on individual privacy rights. Customer identity is verified; customers have control over how much information is kept about them; and the information is securely maintained and transmitted.

Customers may opt to file a change-of-address online or through the mail. To protect individuals who file online against fraud, the Postal Service collects information to establish proof of identity and confirms the address change request by e-mail. Each time a customer uses MoversGuide.com to obtain move-related services, he or she will be given the option to save the information for ordering other products and services or to delete it then or at a later time. If information is saved, the customer must enter a user name and password to access the information in the future.

Security controls have been applied to protect the information during transmission and physical maintenance. The system will be housed in a restricted area with access controlled by an installed security software package, the use of logon identifications and passwords, and operating system controls. Information is transmitted in a secure session established by Secure Sockets Layer (SSL) or equivalent technology. Digital certificates provide the authentication encryption to enable an SSL connection with the postal customer's Web browser. Any transaction that involves sending information is encrypted on both the sending and receiving end to keep others from viewing it. The Postal Service's secure server does not support browsers that do not transmit encrypted information.

Pursuant to 5 U.S.C. 552a(e)(11), interested persons are invited to submit written data, views, or arguments on this proposal. A report of the amended system has been sent to Congress and to the Office of Management and Budget for their evaluation.

System USPS 010.010 was last published in its entirety at 54 FR 43657-43658 dated October 26, 1989, and amended at 64 FR 8877-8878 dated February 23, 1999. It is proposed that the system description be amended as follows:

USPS 010.010

SYSTEM NAME:

[CHANGE TO READ:]

Collection and Delivery Records-Address Change, Mail Forwarding, and Related Services Records, 010.010.

* * * * *

CATEGORIES OF INDIVIDUALS COVERED BY THE SYSTEM:

[CHANGE TO READ:]

Postal customers requesting mail forwarding and related services from their local postal facilities or through Postal Service Internet services. Any postal customers who are victims of a disaster who have requested mail forwarding services through the American Red Cross.

CATEGORIES OF RECORDS IN THE SYSTEM:

[CHANGE TO READ:]

a. Address change records including customer number, name, old mailing address, new mailing address, mail forwarding instructions, effective date, information about whether the move is permanent or temporary, contact information for customer service, and any information/records for online proof of identity.

b. Records pertaining to other move-related services provided by entities outside the Postal Service contain customer number, name, address, products, effective date, billing, and identity validation information required to service the customers' requests.

c. Postal customer inquiry/comment records may contain customer number, name, contact information, description of service request, and responses.

d. Outside service provider records contain name of the service provider, customer name, policies related to privacy and customer service, product offerings, and service processing information.

e. Optional customer records contain the information a customer chooses to save to apply to future transactions on the Internet site. They may contain names, addresses, online proof of identification, billing, and other information used to request a service.

f. Internet site usage records contain referral source, search word used to come to the site, Internet Protocol (IP) address, domain name, operating system versions, browser version, page visited, and other information to analyze the usage of the site.

* * * * *

PURPOSE(S):

[CHANGE TO READ:]

a. To provide mail forwarding services to postal customers who have changed addresses.

b. To provide address correction services to postal customers.

c. To provide address information to the American Red Cross about a postal customer who has been relocated because of a disaster.

d. To provide postal customers with Internet access the ability to file fully electronic change-of-address in order to further automate and enhance current address change services.

e. To provide postal customers with Internet access to providers of move-related services as a means of improving customer convenience and service quality.

ROUTINE USES OF RECORDS MAINTAINED IN THE SYSTEM, INCLUDING CATEGORIES OF USERS AND THE PURPOSES OF SUCH USES:

[ADD ROUTINE USE 9, 10, AND 11 AS FOLLOWS:]

9. Postal customer online requests for move-related services will be forwarded in a secured manner to the specified service providers, which may include government agencies and private companies, at the election of the customer online.

10. Change-of-address information from this system may be disclosed to certain government agencies and other entities at the election of the postal customer online.

11. Information from this system shall be disclosed to an authorized online identity validation system for the purpose of verifying the identity of a customer submitting a change-of-address online.

POLICIES AND PRACTICES FOR STORING, RETRIEVING, ACCESSING, RETAINING, AND DISPOSING OF RECORDS IN THE SYSTEM: STORAGE:

[CHANGE TO READ:]

The source document is maintained on file at the delivery unit. They are filed alphabetically by name within a month. Records generated from the source document are recorded on the Forwarding Control System file server and on 8-mm tapes at Computerized Forwarding System units. Electronic change-of-address records and related service records are also stored on disk and/or magnetic tape in a secured environment. Change-of-address records are consolidated in a National Change-of-Address (NCOA) File at the National Customer Support Center (NCSC). Selected extracts of NCOA are provided to a limited number of firms under contract or license agreement with the Postal Service. Records pertaining to move-related services are also transmitted to specific service providers, including government agencies and private companies under contract to the Postal Service.

RETRIEVABILITY:

[ADD:]

By name and address and customer number for electronic change-of-address and related service records. By name, address, and e-mail address for customer service records. By name or service provider number for service provider records. By customer number, name, password, and/or challenging question and answer. The Internet site usage records are summarized for site usage analysis and are not retrieved by personal identifier.

* * * * *

RETENTION AND DISPOSAL:

[CHANGE TO READ:]

a. Change-of-address source document is retained for 18 months from effective date and then destroyed.

b. Change-of-address information on magnetic tape and/or disk at Computerized Forwarding System sites is retained for 18 months from effective date. At the end of that period, the data is automatically purged from the Forwarding Control System.

c. Change-of-address information on magnetic tape at the National Customer Support Center (National Change-of-Address File) is retained for 36 months from effective date.

d. Internet change-of-address and related service records are kept on the online disks for 6 months from the execution date of the requests and archived to offline disks or tapes for an additional 13 months. At the end of that period, the records on offline disks or tapes are erased.

e. Postal customer service records are kept on the online disks for 6 months from the closure date of the request and archived to offline disks or tapes for an additional 7 months. At the end of that period, the records on offline disks or tapes are erased.

f. Outside service provider records are kept on the online disks for 3 months from the date of service termination and archived to offline disks or tapes for an additional 10 months. At the end of that period, the records on offline disks or tapes are erased.

g. Records saved at the customer's option are maintained until the customer decides to delete the previous transaction records or the account is disabled for inactivity. The customer can choose to modify saved records at any time, and the choice will be executed immediately. An erased customer record shall not be recovered or recalled.

h. Internet site usage records are kept on the online disks for 12 months and archived to offline disks or tapes for an additional 13 months. At the end of the period, the records on offline disks or tapes are erased.

RECORD SOURCE CATEGORIES:

The individual to whom the record pertains; service providers; and providers of online identity validation.

Stanley F. Mires,
Chief Counsel, Legislative.

[FR Doc. 00-16253 Filed 6-27-00; 8:45 am]

BILLING CODE 7710-12-P